NATIONAL AERONAUTICS AND SPACE ADMINISTRATION

[14-062]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: July 3, 2014.

FOR FURTHER INFORMATION CONTACT: Robert H. Earp, III, Patent Attorney, Glenn Research Center at Lewis Field, Code 21-14, Cleveland, OH 44135; telephone (216) 433-3663; fax (216) 433-6790.

NASA Case No.: LEW-19040-1: Fast, Large Area, Wide Band Gap UV Photodetector for Cherenkov Light Detection;

NASA Case No.: LEW-19029-1: High Hardness, High Elasticity Intermetallic Compounds for Mechanical Components;

NASA Case No.: LEW-18970-1: Methods for Intercalating and Exfoliating Hexagonal Boron Nitride;

NASA Case No.: LEW-18605-3: Ion Optics;

NASA Case No.: LEW-19053-1: Process for Preparing Aerogels from Polyamides;

NASA Case No.: LEW-18486-2: Polyimide Aerogels with Three Dimensional Cross-Linked Structure;

NASA Case No.: LEW-19045-1: Multimode Directional Coupler;

NASA Case No.: LEW-18902-1: Analog Correlator Based on One Bit Digital Correlator;

NASA Case No.: LEW-17618-3: Polyimides Resins for Additive Manufacturing;

NASA Case No.: LEW-19013-1: Multi-Spoked Wheel Assembly;

NASA Case No.: LEW-18426-2: Dual-Mode Combustor;

NASA Case No.: LEW-18957-1: Dynamic Range Enhancement of High-Speed Electrical Signal Data Via Non-Linear Compression;

NASA Case No.: LEW-18923-1: Hydrogen Isotope Thermal Power Source;

NASA Case No.: LEW-18873-1: Process for Forming a High Temperature Single Crystal Preloader.

Sumara M. Thompson-King,
Deputy General Counsel.

[FR Doc. 2014-15675 Filed 7-2-14; 8:45 am]

BILLING CODE 7510-13-P